DEPARTMENT OF COMMERCE

Foreign-Trade Zones Board

[Order No. 1816]

Reorganization/Expansion of Foreign-Trade Zone 106 under Alternative Site Framework, Oklahoma City, OK

Pursuant to its authority under the Foreign-Trade Zones Act of June 18, 1934, as amended (19 U.S.C. 81a-81u), the Foreign-Trade Zones Board (the Board) adopts the following Order:

Whereas, the Board adopted the alternative site framework (ASF) in December 2008 (74 FR 1170-1173, 01/12/2009; correction 74 FR 3987, 01/22/2009; 75 FR 71069-71070, 11/22/2010) as an option for the establishment or reorganization of general-purpose zones;

Whereas, the Port Authority of Greater Oklahoma City, grantee of Foreign-Trade Zone 106, submitted an application to the Board (FTZ Docket 20-2011, filed 3/15/2011) for authority to reorganize and expand under the ASF with a service area of Blaine, Caddo, Canadian, Cleveland, Comanche, Custer, Garfield, Garvin, Grady, Kay, Kingfisher, Lincoln, Logan, McClain, Noble, Oklahoma, Payne, Pontotoc, Pottawatomie, Seminole and Stephens Counties, Oklahoma, within and adjacent to the Oklahoma City Customs and Border Protection port of entry, FTZ 106's existing Sites 1 (as combined with Site 8), 12 and 13 would be categorized as magnet sites, existing Sites 2 and 14 would be categorized as usage-driven sites, and the grantee proposes two new magnet sites (Sites 15 and 16);

Whereas, notice inviting public comment was given in the Federal Register (76 FR 15290-15291, 3/21/2011) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to reorganize and expand FTZ 106 under the alternative site framework is approved, subject to the FTZ Act and the Board's regulations, including Section 400.28, to the Board's standard 2,000-acre activation limit for the overall general-purpose zone project, to a five-year ASF sunset provision for magnet sites that would terminate authority for Sites 12, 13, 15 and 16 if not activated by February 28, 2017, and to a three-year ASF sunset provision for usage-driven sites that would terminate authority for Sites 2 and 14 if no foreign-status merchandise is admitted for a bona fide customs purpose by February 28, 2015.

Signed at Washington, DC, this 29th day of February 2012.
Ronald K. Lorentzen,
Acting Assistant Secretary of Commerce for Import Administration, Alternate Chairman, Foreign-Trade Zones Board.
ATTEST:
Andrew McGilvray,
Executive Secretary.

[FR Doc. 2012-6299 Filed 3-14-12; 8:45 am]

BILLING CODE 3510-DS-P